DEPARTMENT OF TRANSPORTATION

Federal Aviation Administration

Commercial Space Transportation Advisory Committee—Open Meeting

AGENCY: Federal Aviation Administration (FAA), DOT.

ACTION: Notice of commercial space transportation advisory committee open meeting.

SUMMARY: Pursuant to Section 10(a)(2) of the Federal Advisory Committee Act (Pub. L. 92-463, 5 U.S.C. App. 2), notice is hereby given of a meeting of the Commercial Space Transportation Advisory Committee (COMSTAC). The meeting will take place on Friday, May 18, 2007, starting at 8 a.m. at the Federal Aviation Administration Headquarters Building, 800 Independence Avenue, SW., Washington, DC, in the Bessie Coleman Conference Center, located on the 2nd Floor. This will be the forty-fifth meeting of the COMSTAC.

The proposed agenda for the meeting will feature the release of and briefings on the 2007 Commercial Space Transportation Forecasts, a special presentation, a report on activities in FAA's Office of Commercial Space Transportation (AST), and COMSTAC Working Group reports. An agenda will be posted on the FAA Web site at http://ast.faa.gov. Meetings of the COMSTAC Working Groups (Technology and Innovation, Reusable Launch Vehicle, Risk Management, and Launch Operations and Support) will be held on Thursday, May 17, 2007. For specific information concerning the times and locations of the working group meetings, contact the Contact Person listed below.

Individuals who plan to attend and need special assistance, such as sign language interpretation or other reasonable accommodations, should inform the Contact Person listed below in advance of the meeting.

FOR FURTHER INFORMATION CONTACT: Brenda Parker (AST-100), Office of the Commercial Space Transportation, 800 Independence Avenue, SW., Room 331, Washington, DC 20591, telephone (202) 267-3674; E-mail brenda.parker@faa.gov.

Issued in Washington, DC, March 13, 2007.
Patricia Grace Smith,
Associate Administrator for Commercial Space Transportation.

[FR Doc. E7-5184 Filed 3-21-07; 8:45 am]

BILLING CODE 4910-13-P